DEPARTMENT OF THE INTERIOR

Closure Order Establishing Prohibitions at Nimbus Dam and Power Plant, CA

AGENCY: Bureau of Reclamation.

ACTION: Notice of closure.

SUMMARY: The Bureau of Reclamation is prohibiting public access to Nimbus Dam and power plant. The prohibition (closure) area consists of the entire dam and power plant structure; the fenced in area at each end of and immediately adjacent to the structure; lands and water 85 feet downstream of the dam and power plant; and lands and waters 75 feet upstream of the dam and power plant.

DATES: The closure will be effective January 2, 2003 and will remain in effect indefinitely.

ADDRESSES: A map is available for inspection at the Bureau of Reclamation's Central California Area Office, located at 7794 Folsom Dam Road, Folsom, California 95630. The map may be viewed between the hours of 8 a.m. and 4 p.m., Monday through Friday. To have a map mailed to your address, send your request to the above address, Attention: Nimbus Dam Map Request.

FOR FURTHER INFORMATION CONTACT: Bureau of Reclamation, Mid-Pacific Region Public Affairs Office at (916) 978-5100 or the Bureau of Reclamation, Central California Area Office at (916) 988-1707.

SUPPLEMENTARY INFORMATION: This action is being taken under 43 CFR 423.3 to improve facility security and public safety. The Bureau of Reclamation will be prohibiting access to the structure in an effort to prevent activities that may inadvertently or deliberately cause property damage to the structure. The following acts are prohibited on the facilities, lands and waters in the closure area: (a) Trespassing, entering, or remaining in or upon the closure areas described above. (Exceptions: Operation and Maintenance personnel that have expressed authorization from the Bureau of Reclamation; law enforcement and fire department officers and Bureau of Reclamation employees acting within the scope of their employment, and any others who have received expressed written authorization from the Bureau of Reclamation to enter the closure areas). (b) Tampering or attempting to tamper with the facilities, structures or other property or real property located within the closure areas or moving, manipulating, or setting in motion any of the parts thereof. (Exceptions: see a. above). (c) Vandalism or destroying, injuring, defacing, or damaging property that is not under one's lawful control or possession.

Closing of the area will also improve the agency's ability to detect and respond to potential problems at the facility. In addition, prohibiting public access to the tailrace area will reduce the likelihood of drowning incidents. The water releases from the power plant are turbulent and should an individual fall into the tailrace, drowning is a highly probable outcome. This order is posted in accordance with 43 CFR 423.3(b). Violation of this prohibition or any prohibition listed in 43 CFR part 423 is punishable by fine, or imprisonment for not more than six months, or both.

Dated: October 21, 2002.
Thomas J. Aiken,
Area Manager, Central California Area Office, Mid-Pacific Region.

[FR Doc. 03-2156 Filed 1-29-03; 8:45 am]

BILLING CODE 4310-MN-M